SECURITIES AND EXCHANGE COMMISSION

[Release No. 35-27562]

Filings Under the Public Utility Holding Company Act of 1935, as Amended (“Act”)

August 21, 2002.

Notice is hereby given that the following filing has been made with the Commission pursuant to provisions of the Act and rules promulgated under the Act. All interested persons are referred to the application/declaration for a complete statements of the proposed transaction summarized below. The application/declaration is available for public inspection through the Commission's Branch of Public Reference.

Interested persons wishing to comment or request a hearing on the application/declaration should submit their views in writing by September 16, 2002, to the Secretary, Securities and Exchange Commission, Washington, DC 20549-0609, and serve a copy on the relevant applicant/declarant at the address specified below. Proof of service (by affidavit or, in the case of an attorney at law, by certificate) should be filed with the request. Any request for hearing should identify specifically the issues of facts or law that are disputed. A person who so requests will be notified of any hearing, if ordered, and will receive a copy of any notice or order issued in the matter. After September 16, 2002, the application/declaration, as filed or as amended, may be granted and/or permitted to become effective.

Entergy Corporation (70-9749)

Entergy Corporation (“Entergy”), a registered public utility holding company, 639 Loyola Avenue, New Orleans, LA 70113, has filed a post-effective amendment under sections 6(a) and 7 of the Act and rule 54 under the Act to its previously filed application-declaration (“Application”).

By order dated April 3, 2001 (HCAR No. 27371) the Commission authorized, among other things, Entergy to issue and sell through June 30, 2004 (“Authorization Period”) short-term debt in the form of notes to banks (“Notes”) or commercial paper (“Paper,” and collectively with “Notes,” “Short-Term Debt”) that will not exceed an outstanding aggregate principal amount of $1.5 billion.

In this post-effective amendment, Entergy requests authority to issue and sell from time to time through the Authorization Period additional Short-Term Debt in an aggregate principal amount at any time outstanding not to exceed $2 billion. Terms and conditions of Short-Term Debt previously authorized continue to apply to additional Short-Term Debt issued under this authority.

Entergy will use the proceeds from the financings for general corporate purposes, including (i) financing, in part, investments by and capital expenditures of Entergy and its subsidiaries, (ii) the repayment, redemption, refunding or purchase by Entergy of any of its securities under rule 42, and (iii) financing working capital requirements of Entergy and its subsidiaries.

For the Commission, by the Division of Investment Management, pursuant to delegated authority.
Margaret H. McFarland,
Deputy Secretary.

[FR Doc. 02-21777 Filed 8-26-02; 8:45 am]

BILLING CODE 8010-01-P